ENVIRONMENTAL PROTECTION AGENCY

[EPA-HQ-OAR-2011-0837; FRL-9504-6]

Notice of Receipt of, and Opportunity To Comment on, a Plan by Fiberight of Blairstown LLC for Separation of Recyclable Material From Municipal Solid Waste Intended for Use as a Feedstock for Renewable Fuel Production at a Blairstown, IA Biorefinery

AGENCY: Environmental Protection Agency (EPA).

ACTION: Notice.

SUMMARY: EPA is issuing notice of receipt of, and opportunity to comment on, a plan by Fiberight of Blairstown LLC to remove recyclables from municipal solid waste (MSW) prior to its use as a feedstock for renewable fuel production at their biorefinery in Blairstown, Iowa. Submission of a separation plan is a registration requirement under the Renewable Fuel Standard Program regulations established under Clean Air Act section 211(o) for producers seeking to make qualifying renewable fuel from MSW-derived feedstock. The separation plan must demonstrate ongoing verification that there is separation of recyclable paper, cardboard, plastics, rubber, textiles, metals, and glass wastes to the extent reasonably practicable. MSW-derived feedstock collected according to a separation plan approved by EPA may qualify as “separated MSW” in biofuel production pathways authorized for generation of Renewable Identification Numbers (RINs) under the Renewable Fuel Standard Program.

DATES: Comments must be received on or before January 9, 2012.

ADDRESSES: Submit your comments, identified by Docket ID No. EPA-HQ-OAR-2011-0837, by one of the following methods:

• http://www.regulations.gov: Follow the on-line instructions for submitting comments.

• Email: a-and-r-docket@epa.gov.

• Fax: (202) 566-1741.

• Mail: Air and Radiation Docket, Environmental Protection Agency, Mailcode: 6102T, 1200 Pennsylvania Ave. NW., Washington, DC 20460. Please include a total of two copies.”

• Hand Delivery: EPA Docket Center, Public Reading Room, EPA West Building, Room 3334, 1301 Constitution Avenue NW., Washington, DC 20460. Such deliveries are only accepted during the Docket's normal hours of operation, and special arrangements should be made for deliveries of boxed information.

Instructions: Direct your comments to Docket ID No. EPA-HQ-OAR-2011-0837. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: The complete plan and all supporting materials are available for public review in the docket. All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air and Radiation Docket is (202) 566-1741.

FOR FURTHER INFORMATION CONTACT: Madison Le, Office of Transportation and Air Quality, Mailcode: 6406J, Environmental Protection Agency, 1200 Pennsylvania Ave. NW., Washington, DC 20460; telephone number: (202) 343-9094; fax number: (202) 343-2802; email address: le.madison@epa.gov.

SUPPLEMENTARY INFORMATION:

(A) Request for Comments

On October 11, 2011, Fiberight Blairstown Operating, LLC (“Fiberight”) submitted a plan to EPA pursuant to 40 CFR 80.1450(b)(1)(viii) for the separation of recyclable material from municipal solid waste (MSW) prior to its use as a feedstock for renewable fuel production under the Renewable Fuels Standard Program of Clean Air Act Section 211(o). The Fiberight separation plan has been placed in the public docket and is available for public comment.

Fiberight seeks EPA approval that their plan will demonstrate ongoing verification that there is separation from MSW of recyclable paper, cardboard, plastics, rubber, textiles, metals, and glass wastes to the extent reasonably practicable before the separated MSW is used as a feedstock for biofuel production. EPA has outlined registration requirements for producers of renewable fuel made from separated MSW in 80.1450(b)(1)(viii), including the requirement for submission of a separation plan. EPA has also developed supplemental questions to better understand where the recyclable materials will be diverted after separation, the recycle goals of the local community, and the existing recycling programs and infrastructure in the region. Fiberight provided responses to these supplemental questions in their plan (referenced in pages 13 to 16 of their plan). EPA solicits comments and information to assist EPA in evaluating the Fiberight separation plan for possible approval.

Although EPA's approval or disapproval of the Fiberight separation plan will not be conducted through rulemaking, and an opportunity for public comment is not legally required prior to EPA action on the plan, EPA is soliciting public comment at this time because the Fiberight separation plan is the first such plan to be submitted to EPA for approval. EPA believes that public comment on this first plan submission would be beneficial, but EPA may not seek public comment prior to approval or disapproval of future separation plan submissions.

The public is specifically invited to comment whether Fiberight's separation plan incorporates all of the elements required in the regulations and provides for the separation of recyclable cardboard, plastics, rubber, textiles, metals, and glass from MSW to the extent that is reasonably practicable.

Dated: December 5, 2011.
Margo Tsirigotis Oge,
Director, Office of Transportation and Air Quality.

[FR Doc. 2011-31661 Filed 12-8-11; 8:45 am]

BILLING CODE 6560-50-P